DEPARTMENT OF THE INTERIOR

Fish and Wildlife Service

[FWS-HQ-FAC-2016-N054; FXFR13360900000-FF09F14000-167]

Aquatic Nuisance Species Task Force Meeting

AGENCY: Fish and Wildlife Service, Interior.

ACTION: Notice of meeting.

SUMMARY: We, the U.S. Fish and Wildlife Service, announce a public meeting of the Aquatic Nuisance Species (ANS) Task Force. The ANS Task Force's purpose is to develop and implement a program for U.S. waters to prevent introduction and dispersal of aquatic invasive species (AIS); to monitor, control, and study such species; and to disseminate related information.

DATES: The ANS Task Force will meet from 8 a.m. to 5:30 p.m. on Wednesday, May 4, 2016; 8 a.m. to 5 p.m. on Thursday, May 5, 2016; and 8 a.m. to 12:30 p.m. on Friday, May 6, 2016. For more information, contact the ANS Task Force Executive Secretary (see FOR FURTHER INFORMATION CONTACT).

ADDRESSES: The ANS Task Force meeting will take place at the Park Place Hotel, 300 East State Street, Traverse City, Michigan 49684 (telephone: 231-946-5000).

FOR FURTHER INFORMATION CONTACT: Susan Pasko, Executive Secretary, ANS Task Force, by telephone at 703-358-2466, or by email at Susan_Pasko@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 14 ex-officio members, and co-chaired by the U.S. Fish and Wildlife Service and the National Oceanic and Atmospheric Administration. The ANS Task Force provides advice on AIS infesting waters of the United States and other nations, among other duties as specified in the Act.

Meeting Agenda

• Great Lakes Restoration Initiative Project Updates

• Nonindigenous Aquatic Species and Great Lakes Aquatic Non-indigenous Species Information System Database Update

• Presentation on Idaho's Aquatic Invasive Species Prevention Program

• Update on the Boat Manufacturer Technical Information Report

• Session on Interbasin Transfer of AIS

• Session on Asian Carp Risk Assessments

• Presentation on Genome Editing Applications for AIS

• Update on the Government Accountability Office Report for AIS

• Approval of the Revised New York State ANS Management Plan

• Updates on Efforts to Address AIS Transport at Federally Managed Water Bodies

• Update on the National Early Detection Rapid Response Framework and Emergency Response Funding Plan

• Update on Policy and Planning from the National Invasive Species Council

There will be a field trip Wednesday, May 4, 2016, from 1 p.m. to 5:30 p.m. to Sleeping Bear Dunes National Lakeshore near Empire, Michigan. The field trip will include additional presentations on and viewing of AIS control projects within Sleeping Bear Dunes. To register for the field trip, contact the ANS Task Force Executive Secretary (see FOR FURTHER INFORMATION CONTACT).

The final agenda and other related meeting information will be posted on the ANS Task Force Web site at http://anstaskforce.gov.

Meeting Minutes

Summary minutes of the meeting will be maintained by the Executive Secretary (see FOR FURTHER INFORMATION CONTACT). The minutes will be available for public inspection within 60 days after the meeting and will be posted on the ANS Task Force Web site at http://anstaskforce.gov.

Dated: April 8, 2016.
David W. Hoskins,
Co-Chair, Aquatic Nuisance Species Task Force, Assistant Director for Fish and Aquatic Conservation.

[FR Doc. 2016-08733 Filed 4-14-16; 8:45 am]

BILLING CODE 4333-15-P